DEPARTMENT OF THE INTERIOR

Fish and Wildlife Service

[FWS-R1-R-2011-N088; 1265-0000-10137-S3]

Columbia National Wildlife Refuge, Adams and Grant Counties, WA; Draft Comprehensive Conservation Plan and Environmental Assessment

AGENCY: Fish and Wildlife Service, Interior.

ACTION: Notice of availability; request for comments.

SUMMARY: We, the U.S. Fish and Wildlife Service (Service), announce the availability of our draft comprehensive conservation plan and environmental assessment (Draft CCP/EA) for the Columbia National Wildlife Refuge (Refuge) for public review and comment. The Draft CCP/EA describes our proposal and alternatives for managing the Refuge for the next 15 years.

DATES: To ensure consideration, please send your written comments by August 29, 2011.

ADDRESSES: You may download a copy of the Draft CCP/EA from our Web site: http://www.fws.gov/columbia/. You may submit comments on the Draft CCP/EA or request a copy of it on CD-ROM by any of the following methods. A limited number of printed copies are also available.

E-mail: mcriver@fws.gov. Include “Columbia Draft CCP/EA” in the subject line of the message.

Fax: Attn: Kelly Chase, (509) 546-8303.

U.S. Mail: Kelly Chase, Refuge Manager, Columbia National Wildlife Refuge, 64 Maple Street, Burbank, WA 99323.

FOR FURTHER INFORMATION CONTACT: Dan Haas, (509) 546-8333 (phone); or daniel_haas@fws.gov (e-mail).

SUPPLEMENTARY INFORMATION:

Introduction

With this notice, we continue the CCP process for the Refuge. The Service began this process by publishing a notice of intent in the Federal Register (74 FR 25576) on May 28, 2009.

The Refuge is located in the high desert of central Washington. It encompasses 29,656 acres of grassland, shrub-steppe, lake, and wetland habitats. The Refuge was established in 1944, in conjunction with the Columbia Basin Irrigation Project (CBIP), and has been actively managed since 1955. The Refuge's primary purposes are as a refuge and breeding ground for migratory birds and other wildlife, and for use as an inviolate sanctuary, or for any other management purpose, for migratory birds. The Refuge was created as a breeding ground for migratory birds; however, it is primarily an important stopover during migration.

Background

The CCP Process

The National Wildlife Refuge System Administration Act of 1966 (16 U.S.C. 668dd-668ee), (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities that are compatible with a refuge's purposes, and available to the public, including opportunities for hunting, fishing, wildlife observation and photography, and environmental education and interpretation. We will review and update the CCP at least every 15 years in accordance with the Refuge Administration Act.

Public Outreach

The Service began the public scoping phase of the CCP planning process by publishing a notice of intent in the Federal Register (74 FR 25576) on May 28, 2009, announcing our intention to complete a CCP/EA for the Refuge, inviting the public to a public open house meeting, and requesting public comments. Simultaneously, we distributed Planning Update 1 to our mailing list, announcing the beginning of the CCP planning process, requesting comments on Refuge management issues, and inviting the public to attend a public open house meeting. The public meeting was held June 16, 2009, in Othello, Washington.

In February 2011 we distributed Planning Update 2. The update included a summary of the comments we received, and our draft management alternatives, goals, and objectives. The public comments we received throughout the planning process were considered during development of the Draft CCP/EA.

Draft CCP Alternatives We Are Considering

During the public scoping process we identified a number of issues in Planning Update 1, and in the comments we received from the public, government agencies, and Tribes. To address these issues, we developed and evaluated three alternatives for managing the Refuge. A full description of each alternative is in the Draft CCP/EA. All of the alternatives will include actions to control invasive species, develop or improve partnerships, continue coordination with the Washington Department of Fish and Wildlife, develop volunteer opportunities, and make restoration of habitats a top priority. A brief summary of each alternative follows.

Alternative 1

Alternative 1 is our no action alternative; under it we would continue current management programs. Refuge lands would continue to be managed using a mix of natural processes and habitat maintenance activities. For example, we allow many wetland areas to follow natural succession; however, we conduct noxious weed control, prescribed fire, and other maintenance actions within them. Several moist soil management areas also require water level manipulation, dike maintenance, extensive soil preparation, plantings, and other treatments. Several specialized habitats, such as rock outcroppings and alkali wetlands, are not actively managed. A cooperative farming program is conducted on the Refuge that provides food sources for migratory birds and other wildlife. Waterfowl habitat is actively managed. Management for State or Federal species of concern, such as the Washington ground squirrel, is limited.

The Refuge's annual Sandhill Crane Festival attracts hundreds of people from throughout the Northwest and the rest of the United States. Other compatible public uses include hunting, fishing, wildlife photography and observation, and environmental education and interpretation; however, facilities to accommodate these activities are limited. The Refuge stocks sport fish; however, it lacks a fishing platform that is compliant with the Americans with Disabilities Act (ADA). The Refuge conducts a hunting lottery for a few waterfowl blinds, and other hunting occurs in compliance with Refuge-specific regulations and law enforcement. A small number of trails are provided for hiking and wildlife viewing. A few interpretive signs are provided, and environmental education programs are limited and sporadic.

Alternative 2

Under Alternative 2, Refuge management actions would be similar to Alternative 1, with a number of improvements. Approximately 175 acres of emergent wetlands in Marsh Unit III would be converted to riparian habitat. The Crab Creek channel would be restored. Specialized habitats (e.g., rock outcroppings) would be managed. Farming would continue using low-impact techniques. Management of State and Federal species of concern would be emphasized.

Visitor use would focus on compatible wildlife observation, photography, and interpretation. The Sandhill Crane Festival would remain a priority. Camping, horseback riding, and bicycling uses may change, or be restricted or eliminated, to enhance various habitats. Additional facilities would be developed, including seasonal photography blinds and an ADA-compliant fishing area and hunting blind. Compatible waterfowl hunting would continue; however, the permanent blinds would be removed (excluding the ADA-compliant blinds), and the lottery would be eliminated. Morgan Lake Road would be closed to overnight travel. Interpretive and educational programs would be limited; however, numerous Refuge brochures would be developed to enhance recreational use of the Refuge.

Alternative 3

Refuge management actions under Alternative 3 would be much the same as Alternative 2, with a greater emphasis on visitor services. The Soda Lake Campground would be converted to day-use facilities, and the area around the Bluebird Campground would be available by permit, as a day-use educational site. To promote hunting and fishing opportunities, ADA-compliant facilities would be developed. Compatible waterfowl and big game hunting opportunities would be expanded by opening new areas, and implementing additional youth hunt days, areas, and seasons. The waterfowl blinds and hunting lottery would be retained. Horseback riding and bicycling would continue. Morgan Lake Road would remain open for 24-hour use. A new hiking and interpretive trail would be developed within the Drumheller Channel National Natural Landmark. Seasonal and permanent wildlife observation blinds would be provided. New interpretive and educational programs would be developed, and new brochures to aid Refuge visitors would be developed. The Sandhill Crane Festival would remain a priority. Fish stocking would continue in some lakes; however, to support northern leopard frog recovery, we would discontinue fish stocking in lakes that have the highest likelihood of the species recovery success, as determined by an interdisciplinary team of experts.

Public Availability of Documents

We encourage you to review and comment on the proposals we have developed in the Draft CCP/EA. The Draft CCP/EA is available on our Web site or by request from the Refuge (see ADDRESSES).

Next Steps

After this comment period ends, we will analyze the comments and address them in the final CCP and decision document.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: May 20, 2011.
Richard Hannan,
Acting Regional Director, Region 1, Portland, Oregon.

[FR Doc. 2011-19200 Filed 7-28-11; 8:45 am]

BILLING CODE 4310-55-P